COMMITTEE FOR THE IMPLEMENTATION OF TEXTILE AGREEMENTS

Denial of Short Supply Request under the African Growth and Opportunity Act (AGOA) and the United States - Caribbean Basin Trade Partnership Act (CBTPA).

July 10, 2001.

AGENCY: Committee for the Implementation of Textile Agreements (CITA).

ACTION: Denial of request alleging that yarns of 55 percent polyester staple fibers and 45 percent worsted wool, 1, 2, and 3 ply yarns, in their natural (undyed) state or in their stock dyed state (fiber dyed), with 12 to 20 twists per inch, and in sizes of 1/15 to 1/30, 2/30 to 2/60, and 3/48 to 3/60 worsted count (1/17 to 1/34, 2/34 to 2/68 and 3/54 to 3/68 metric count) classified in subheading 5509.52.00 of the Harmonized Tariff Schedule of the United States, cannot be supplied by the domestic industry in commercial quantities in a timely manner.

SUMMARY: On May 11, 2001 the Chairman of CITA received a petition on behalf of Stillwater Sales, Inc./Metcalf Bros. and Company (Stillwater/Metcalf) alleging that, yarns of 55 percent polyester staple fibers and 45 percent worsted wool, 1, 2, and 3 ply yarns, in their natural (undyed) state or in their stock dyed state (fiber dyed), with 12 to 20 twists per inch, and in sizes of 1/15 to 1/30, 2/30 to 2/60, and 3/48 to 3/60 worsted count (1/17 to 1/34, 2/34 to 2/68 and 3/54 to 3/68 metric count) classified in subheading 5509.52.00 of the Harmonized Tariff Schedule of the United States (HTSUS), cannot be supplied by the domestic industry in commercial quantities in a timely manner. It requested that apparel articles of woven U.S. formed fabric from such yarn be eligible for preferential treatment under the AGOA and the CBTPA. As a result, CITA published a Federal Register Notice (66 FR 27078) requesting public comments on the petition. These comments were due May 31, 2001. Based on its review of the petition, public comments received, and other information obtained, CITA is denying the petition.

FOR FURTHER INFORMATION CONTACT: Lori Mennitt, International Trade Specialists, Office of Textiles and Apparel, U.S. Department of Commerce, (202) 482-3400.

SUPPLEMENTARY INFORMATION:

Authority: Section 112(b)(5)(B) of the AGOA; Section 213(b)(2)(A)(v)(II) of the Caribbean Basin Economic Recovery Act, as added by Section 211(a) of the CBTPA; Sections 1 and 6 of Executive Order No. 13191 of January 17, 2001.

Background:

The AGOA and the CBTPA provide for quota- and duty-free treatment for qualifying textile and apparel products. Such treatment is generally limited to products manufactured from yarns or fabrics formed in the United States or a beneficiary country. The AGOA and the CBTPA also provide for quota- and duty-free treatment for apparel articles that are both cut (or knit-to-shape) and sewn or otherwise assembled in one or more AGOA or CBTPA beneficiary countries from fabric or yarn that is not formed in the United States or an AGOA or CBTPA beneficiary country, if it has been determined that such fabric or yarn cannot be supplied by the domestic industry in commercial quantities in a timely manner. In Executive Order No. 13191, the President delegated to CITA the authority to determine whether yarns or fabrics cannot be supplied by the domestic industry in commercial quantities in a timely manner under the AGOA and CBTPA. On March 6, 2001, CITA published procedures that it will follow in considering requests. (66 FR 13502).

On May 11, 2001 the Chairman of CITA received a petition on behalf of Stillwater/Metcalf alleging that yarns of 55 percent polyester staple fibers and 45 percent worsted wool, 1, 2, and 3 ply yarns, in their natural (undyed) state or in their stock dyed state (fiber dyed), with 12 to 20 twists per inch, and in sizes of 1/15 to 1/30, 2/30 to 2/60, and 3/48 to 3/60 worsted count (1/17 to 1/34, 2/34 to 2/68 and 3/54 to 3/68 metric count) classified in subheading 5509.52.00 of the HTSUS, cannot be supplied by the domestic industry in commercial quantities in a timely manner. It requested that apparel articles of such fabric be eligible for preferential treatment under the AGOA and the CBTPA.

CITA solicited public comments regarding this request (66 FR 27078, published on May 16, 2001) particularly with respect to whether this yarn can be supplied by the domestic industry in commercial quantities in a timely manner.

On the basis of the petition, public comments received and other information obtained, CITA has determined that these yarns are spun in the United States and are available from U.S. producers in commercial quantities in a timely manner. CITA’s review of the public comments and other information obtained indicates that there is amply domestic capacity and availability to supply this product.

D. Michael Hutchinson,
Acting Chairman, Committee for the Implementation of Textile Agreements.

[FR Doc.01-17784 Filed 7-12-01; 11:29 am]

BILLING CODE 3510-DR-S